DEPARTMENT OF THE TREASURY

Office of Thrift Supervision

FEDERAL RESERVE SYSTEM

Proposed Agency Information Collection Activities: Comment Request

AGENCIES: Office of Thrift Supervision (OTS), Treasury; and Board of Governors of the Federal Reserve System (Board).

ACTION: Joint notice and request for comment.

SUMMARY: In accordance with the requirements of the Paperwork Reduction Act of 1995 (44 U.S.C. chapter 35), the Board and the OTS (collectively, the “agencies”), may not conduct or sponsor, and the respondent is not required to respond to, an information collection unless it displays a currently valid OMB control number. The agencies, under the auspices of the Federal Financial Institutions Examination Council (FFIEC), propose the discontinuance of two information collections, the Annual Report of Trust Assets (FFIEC 001) and the Annual Report of International Fiduciary Activities (FFIEC 006), effective with the December 31, 2001, report date. At the end of the comment period, the comments and recommendations received will be analyzed to determine whether the FFIEC and the agencies should proceed with their plan to discontinue the information collections. The agencies will then submit this action to OMB for review and approval.

DATES: Comments must be submitted on or before December 11, 2001.

ADDRESSES: Interested parties are invited to submit written comments to any or all of the agencies. All comments should refer to the OMB control number(s) and will be shared among the agencies.

OTS: Submit any written comments concerning this notice to Information Collection Comments, Chief Counsel's Office, Office of Thrift Supervision, 1700 G Street, N.W., Washington, D.C. 20552, Attention: 1550-0026, fax number (202) 906-6518, or e-mail to infocollection.comments@ots.treas.gov. OTS will post any comments and the related index on the OTS Internet Site at www.ots.treas.gov.

Board: Written comments on the FFIEC 001 and 006 should be addressed to Jennifer J. Johnson, Secretary, Board of Governors of the Federal Reserve System, 20th and C Streets, N.W., Washington, D.C. 20551, or delivered to the Board's mailroom between 8:45 a.m. and 5:15 p.m., and to the security control room outside of those hours. Both the mailroom and the security control room are accessible from the courtyard entrance on 20th Street between Constitution Avenue and C Street, N.W. Comments received may be inspected in room M-P-500 between 9:00 a.m. and 5:00 p.m., except as provided in section 261.12 of the Board's Rules Regarding Availability of Information, 12 CFR 261.12(a).

A copy of the comments may also be submitted to the OMB desk officer for the agencies: Alexander T. Hunt, Office of Information and Regulatory Affairs, Office of Management and Budget, New Executive Office Building, Room 3208, Washington, D.C. 20503.

FOR FURTHER INFORMATION CONTACT: Additional information or a copy of the collections may be requested from:

OTS: Sally W. Watts, OTS Clearance Officer, (202) 906-7380, e-mail address sally.watts@ots.treas.gov. Office of Thrift Supervision, 1700 G Street, N.W., Washington, D.C. 20552.

Board: Mary M. West, Federal Reserve Board Clearance Officer, (202) 452-3829, Division of Research and Statistics, Board of Governors of the Federal Reserve System, 20th and C Streets, N.W., Washington, D.C. 20551. Telecommunications Device for the Deaf (TDD) users may contact Capria Mitchell (202) 872-4984, Board of Governors of the Federal Reserve System, 20th and C Streets, N.W., Washington, D.C. 20551.

SUPPLEMENTARY INFORMATION:

Proposal to discontinue the following currently approved collections of information:

Report Titles: Annual Report of Trust Assets and Annual Report of International Fiduciary Activities.

Form Numbers: FFIEC 001 and FFIEC 006.

Frequency of Response: Annual.

Affected Public: Business or other for profit.

For OTS:

OMB Number: 1550-0026

Number of Respondents: 101 (FFIEC 001)

Estimated Average Time per Response: 4.08 burden hours (FFIEC 001)

Estimated Total Annual Burden: 412 burden hours

For Board:

OMB Number: 7100-0031

Number of Respondents: 22 (FFIEC 001)

0 (FFIEC 006)

Estimated Average Time per Response: 3.82 burden hours (FFIEC 001)

4.0 burden hours (FFIEC 006)

Estimated Total Annual Burden: 84 burden hours

General Description of Reports:This information collection (FFIEC 001 and FFIEC 006) is mandatory: 12 U.S.C. 1464 (for thrift institutions), and 12 U.S.C. 248(a)(1) and (2) and 1844(c) (for state member banks and bank holding companies). The data on the FFIEC 001 are publicly available with the exception of Schedule E - Fiduciary Income Statement. The FFIEC 006, collected by the Board, is given confidential treatment [5 U.S.C. 552(b)(8)]. Small businesses (i.e., small banks) are affected.

Abstract: These interagency reports collect information on fiduciary asset totals and activities. They are used to monitor changes in the volume and character of discretionary trust activity and the volume of nondiscretionary trust activity and to determine resource needs for supervisory purposes.

Current Actions: Financial institutions that exercise fiduciary powers and have fiduciary assets or accounts have reported information on their trust activities each December 31 in the Annual Report of Trust Assets (FFIEC 001). Institutions with trust operations in foreign offices also complete the Annual Report of International Fiduciary Activities (FFIEC 006). The agencies propose to discontinue the FFIEC 001 and the FFIEC 006 trust activities reports.

This proposed discontinuance is prompted by the introduction of Schedule RC-T, “Fiduciary and Related Services,” on the quarterly bank Consolidated Reports of Condition and Income (Call Report) (FFIEC 031 and 041, OMB No. 7100-0036),¹ and Schedule T, “Fiduciary and Related Services” on the quarterly Report of Assets and Liabilities of U.S. Branches and Agencies of Foreign Banks (FFIEC 002, OMB No. 7100-0032).² Schedules RC-T and T take effect as of December 31, 2001. The OTS is adding Schedule FS - Fiduciary and Related Services to the Thrift Financial Report (OMB No. 1550-0023) effective March 31, 2002. This new trust schedule significantly reduces the amount of detail that institutions must report on their trust activities compared to the amount in the current forms. However, the new schedule continues to collect information on the number of accounts and market value of trust assets for specified categories of fiduciary activities, fiduciary and related services income (except for Schedule T), corporate trust activities, collective investment funds and common trust funds, fiduciary settlements and other losses, and types of managed assets held in personal trust and agency accounts. Institutions (including all nondeposit trust companies that file Call Reports) with total fiduciary assets greater than $250 million or with fiduciary income greater than 10 percent of their net interest income plus noninterest income are required to report some of the trust information quarterly and the rest annually on the new schedule. Other institutions with trust activities report only annually, but only those with total fiduciary assets greater than $100 million are required to report fiduciary income and loss information on the Call Reports.

¹ Federal Register, March 5, 2001 (66 FR 13369).

² Federal Register, May 4, 2001 (66 FR 22556).

The new trust schedule will replace the Annual Report of Trust Assets (FFIEC 001) in December 2001 for institutions that file Call Reports and the FFIEC 002 and in March 2002 for institutions that file Thrift Financial Reports. For national and state member banks, two items in the new schedule will replace the Annual Report of International Fiduciary Activities (FFIEC 006). However, federally supervised state-chartered nondeposit trust companies that are subsidiaries of holding companies do not file Call Reports or Thrift Financial Reports, but are currently required to complete the FFIEC 001. The agencies have determined that the information of supervisory interest on trust activities that these trust companies have reported on the FFIEC 001 can be monitored by other means.

At the beginning of 2001, the agencies carried 2,828 hours of respondent burden for these two reports for 728 respondents. After Schedule RC-T was added to the Call Reports and Schedule T to the FFIEC 002, the Board reduced their FFIEC 001 and FFIEC 006 burden estimates by 2,332 hours to avoid double counting. After OTS adds Schedule FS to the TFR with the first quarter 2002, and these reports have been discontinued, the remaining 496 burden hours for the agencies associated with the FFIEC 001 will fall to zero.

Request for Comment

Comments are invited on:

a. Whether the information collections are necessary for the proper performance of the agencies' functions, including whether the information has practical utility;

b. The accuracy of the agencies' estimates of the burden of the information collections, including the validity of the methodology and assumptions used;

c. Ways to enhance the quality, utility, and clarity of the information to be collected;

d. Ways to minimize the burden of information collections on respondents, including through the use of automated collection techniques or other forms of information technology;and

e. Estimates of capital or start up costs and costs of operation, maintenance, and purchase of services to provide information.

Comments submitted in response to this notice will be shared among the agencies and will be summarized or included in the agencies' requests for OMB approval. All comments will become a matter of public record. Written comments should address the accuracy of the burden estimates and ways to minimize burden including the use of automated collection techniques or the use of other forms of information technology as well as other relevant aspects of the information collection request.

September 25, 2001.
Deborah Dakin,
Deputy Chief Counsel, Regulations & Legislation Division Office of Thrift Supervision.
Board of Governors of the Federal Reserve System, October 5, 2001.
Jennifer J. Johnson,
Secretary of the Board.

[FR Doc. 01-25641 Filed 10-11-01; 8:45 am]

BILLING CODES 6720-01-P ½; 6210-01-P ½